DEPARTMENT OF THE TREASURY

Internal Revenue Service

26 CFR Part 1

[REG-124590-07]

RIN 1545-BG11

Guidance Regarding Foreign Base Company Sales Income; Correction

AGENCY: Internal Revenue Service (IRS), Treasury.

ACTION: Correction to a correction to a notice of proposed rulemaking.

SUMMARY: This document contains corrections to a correction to a notice of proposed rulemaking (REG-124590-07) that was published in the Federal Register on Tuesday, April 15, 2008 (73 FR 20201) providing guidance relating to foreign base company sales income, as defined in section 954(d), in cases in which personal property sold by a controlled foreign corporation (CFC) is manufactured, produced, or constructed pursuant to a contract manufacturing arrangement or by one or more branches of the CFC.

FOR FURTHER INFORMATION CONTACT: Ethan Atticks at (202) 622-3840 (not a toll-free number).

SUPPLEMENTARY INFORMATION:

Background

The correction notice that is the subject of this document is under section 954 of the Internal Revenue Code.

Need for Correction

As published, the correction notice to a notice of proposed rulemaking (REG-124590-07) contains errors that may prove to be misleading and are in need of clarification.

Correction of Publication

Accordingly, the publication of a correction notice to a notice of proposed rulemaking (REG-124590-07), which was the subject of FR Doc. E8-8031, is corrected as follows:

§ 1.954-3 [Corrected]

1. On page 20203, column 2, second paragraph of the column, line 2, the language “§ 1.954-3(b)(2)(ii)(c)(2) Example 3.(i),” is corrected to read “§ 1.954-3(b)(4) Example 3.(i),”.

2. On page 20203, column 2, third paragraph of the column, line 2, the language “§ 1.954-3(b)(2)(ii)(c)(2) Example 3.(i),” is corrected to read “§ 1.954-3(b)(4) Example 3.(i),”.

3. On page 20203, column 2, fourth paragraph of the column, line 2, the language “§ 1.954-3(b)(2)(ii)(d), line 10, the” is corrected to read “§ 1.954-3(d), line 10, the”.

LaNita Van Dyke,
Chief, Publications and Regulations Branch, Legal Processing Division, Associate Chief Counsel, (Procedure and Administration).

[FR Doc. E8-9646 Filed 5-1-08; 8:45 am]

BILLING CODE 4830-01-P